NATIONAL COUNCIL ON DISABILITY

Sunshine Act Meetings

TIME AND DATE: The Members of the National Council on Disability (NCD) will hold a quarterly business meeting on Thursday, December 8, 2022, 12:00 p.m.-4:00 p.m., Eastern Standard Time (EST).

PLACE: This meeting will occur via Zoom videoconference. Registration is not required. Interested parties are encouraged to join the meeting in an attendee status by Zoom Desktop Client, Mobile App, or Telephone to dial-in. Updated information is available on NCD's event page at https://ncd.gov/events/2022/upcoming-council-meeting. To join the Zoom webinar, please use the following URL: https://us06web.zoom.us/j/88045536032?pwd=VGRBbUd1a1hOWmhqaGxZWjhmRG00QT09 or enter Webinar ID: 880 4553 6032 in the Zoom app. The Passcode is: 458383.

To join the Council Meeting by telephone, dial one of the preferred numbers listed. The following numbers are (for higher quality, dial a number based on your current location): (669) 900-6833; (408) 638-0968; (312) 626-6799; (346) 248-7799; (253) 215-8782; (646) 876-9923; or (301) 715-8592. You will be prompted to enter the meeting ID 880 4553 6032 and passcode 458383. International numbers are also available: https://us06web.zoom.us/u/kejfj69EDW.

In the event of audio disruption or failure, attendees can follow the meeting by accessing the Communication Access Realtime Translation (CART) link provided. CART is text-only translation that occurs real time during the meeting and is not an exact transcript.

MATTERS TO BE CONSIDERED: Following welcome remarks and introductions, the Council will welcome new Council Members; provide recognition to outgoing Council Members; the Chairman and Executive Committee and Executive Director will provide reports; followed by assignment of Council Member roles and assignments; a Policy update; a discussion on 2024 Progress Report; and any old or new business, before adjourning.

Agenda: The times provided below are approximations for when each agenda item is anticipated to be discussed (all times Eastern Standard Time):

Thursday, December 8, 2022

12:00-12:10 p.m.—Welcome and Call to Order

12:10-1:00 p.m.—Meet the New NCD Council Members

1:00-1:10 p.m.—Outgoing Member Recognition

1:10-1:20 p.m.—Chairman's Report

1:20-1:35 p.m.—Executive Committee Report

1:35-1:45 p.m.—Break

1:45-2:00 p.m.—Council Member Roles and Assignments

2:00-2:40 p.m.—Policy Update

2:40-3:25 p.m.—Progress Report 2024 process discussion

3:25-3:30 p.m.—Old Business/New Business

3:30-4:00 p.m.—Public Comment

4:00 p.m.—Adjourn

Public Comment: Your participation during the public comment period provides an opportunity for us to hear from you—individuals, businesses, providers, educators, parents and advocates. Your comments are important in bringing to the Council's attention issues and priorities of the disability community.

For the December 8 meeting, NCD requests comments from the public regarding ideas for the Council's Fiscal Year 2024 policy project proposals, which will be discussed and voted on at its February Council meeting. NCD specifically requests ideas to engage emerging topics, areas in need of updated research for advising federal policy makers, and areas previously unengaged by the Council.

Because of the virtual setting, there will be a hybrid option for submitting public comment. The Council is soliciting public comment by email or via video or audio over Zoom. Emailed public comment submissions will be reviewed during the meeting and delivered to members of the Council at its conclusion. You can also present public comment during the session by clicking the “Hand Raise” button in Zoom and waiting to be called on. If you plan to present over Zoom, please provide advance notice. To provide comments or notice to present public comment, please send an email to PublicComment@ncd.gov with the subject line “Public Comment” and your name, organization, state, and topic of comment included in the body of your email. Submission should be received no later than December 7, 5 p.m. EST to ensure inclusion.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please notify Anthony Simpson by sending an email to asimpson.cntr@ncd.gov as soon as possible and no later than 24 hours prior to the meeting.

Due to last-minute confirmations or cancellations, NCD may substitute items without advance public notice.

Dated: November 21, 2022.
Anne C. Sommers McIntosh,
Executive Director.

[FR Doc. 2022-25795 Filed 11-22-22; 11:15 am]

BILLING CODE 8421-02-P